DEPARTMENT OF AGRICULTURE

Animal and Plant Health Inspection Service

7 CFR Part 301

[Docket No. 00-036-2]

Citrus Canker; Addition to Quarantined Areas; Correction

AGENCY: Animal and Plant Health Inspection Service, USDA.

ACTION: Interim rule; correction.

SUMMARY: In an interim rule published in the Federal Register on September 5, 2000, we amended the citrus canker regulations by adding portions of several counties in Florida to the list of quarantined areas and by expanding the boundaries of the quarantined areas in several counties in Florida due to recent detections of citrus canker in these areas.

The interim rule contained an error in the description of a quarantined area. This document corrects this error.

DATES: This correction is effective September 26, 2000. We invite you to comment on the interim rule (Docket No. 00-036-1), as corrected by this document. We will consider all comments that we receive by November 6, 2000.

ADDRESSES: Please send your comment and three copies to: Docket No. 00-036-1, Regulatory Analysis and Development, PPD, APHIS, Suite 3C03, 4700 River Road, Unit 118, Riverdale, MD 20737-1238. Please state that your comment refers to Docket No. 00-036-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Stephen Poe, Operations Officer, Program Support Staff, PPQ, APHIS, 4700 River Road Unit 134, Riverdale, MD 20737-1236; (301) 734-8899.

SUPPLEMENTARY INFORMATION: In an interim rule published in the Federal Register on September 5, 2000 (65 FR 53528-53531, Docket No. 00-036-1), we stated that we were amending the citrus canker regulations by adding portions of Hendry, Hillsborough, and Palm Beach Counties, FL, to the list of quarantined areas and by expanding the boundaries of the quarantined areas in Broward, Collier, Dade, and Manatee Counties, FL, due to recent detections of citrus canker in these areas.

Although Palm Beach County was listed, our description of quarantined areas did not include any portions of Palm Beach County. Palm Beach County should not have been listed. We are correcting this error in this document.

In rule FR Doc. 00-22636, published on September 5, 2000 (65 FR 53528-53531, Docket No. 00-036-1), make the following correction: On page 53530, column 2, in § 301.75-4, correct the section heading “Broward, Dade, and Palm Beach Counties” to read “Broward and Dade Counties”.

Done in Washington, DC, this 20th day of September 2000.
Chester A. Gipson,
Acting Administrator, Animal and Plant Health Inspection Service.

[FR Doc. 00-24630 Filed 9-25-00; 8:45 am]

BILLING CODE 3410-34-U